DEPARTMENT OF THE TREASURY

Fiscal Service

31 CFR Part 211

RIN 1510-AA88

Delivery of Checks and Warrants to Addresses Outside the United States, Its Territories and Possessions

AGENCY: Financial Management Service, Fiscal Service, Treasury.

ACTION: Final rule; revision.

SUMMARY: This final rule amends the regulations governing the delivery of Treasury checks outside the United States by removing the reference to Democratic Kampuchea, now known as Cambodia, as an area to which checks may not be sent. With the resumption of diplomatic relations, there is reasonable assurance that payees residing in Cambodia will receive and be able to negotiate checks for full value.

EFFECTIVE DATE: December 10, 2001.

FOR FURTHER INFORMATION CONTACT: William S. Mehr, Manager, Administrative Services Branch, (202) 874-6932, or Tricia Long, Attorney, Office of the Chief Counsel, (202) 874-8615, Financial Management Service, Department of the Treasury, Washington, DC 20227.

SUPPLEMENTARY INFORMATION: Banking and postal facilities in Cambodia have improved since the resumption of diplomatic relations in 1993. With respect to postal facilities, the Department of State has available a system whereby Treasury checks can be sent to the American Embassy for distribution. This arrangement is feasible for both Treasury and State, because the number of payees residing in Cambodia is small.

Accordingly, there is reasonable assurance that payees living in Cambodia will receive checks or warrants drawn against funds of the United States, its agencies or instrumentalities, and will be able to negotiate the same for full value. For this reason, 31 CFR 211.1(a) is being revised to delete the reference to Cambodia.

Rulemaking Analysis

This regulation is not subject to the Regulatory Flexibility Act, 5 U.S.C. 601, et seq., because no notice of proposed rulemaking is required under 5 U.S.C. 553 or any other law.

Because this regulation involves a foreign affairs function of the United States, it is not subject to Executive Order 12866. Accordingly, a regulatory impact analysis is not required.

Notice and Comment

Because this rule removes a restriction on the delivery of checks and warrants to a foreign country, the Department of the Treasury has determined that notice of proposed rulemaking, public procedure and a delayed effective date are not required pursuant to 5 U.S.C. 553(a)(1), 5 U.S.C. 553(b)(B) and 5 U.S.C. 553(d)(1).

List of Subjects in 31 CFR Part 211

Foreign Banking, Checks.

For the reasons set forth in the preamble, 31 CFR Part 211 is amended as follows:

PART 211—DELIVERY OF CHECKS AND WARRANTS TO ADDRESSES OUTSIDE THE UNITED STATES, ITS TERRITORIES AND POSSESSIONS

1. The authority citation for part 211 continues to read as follows:

Authority: 5 U.S.C. 301; 31 U.S.C. 321 and 3329.

2. Section 211.1 is amended by revising paragraph (a) to read as follows:

§ 211.1 Withholding delivery of checks.

(a) It is hereby determined that postal, transportation or banking facilities in general or local conditions in the Republic of Cuba and the Democratic People's Republic of Korea (North Korea) are such that there is not a reasonable assurance that a payee in those areas will actually receive checks or warrants drawn against funds of the United States, or agencies or instrumentalities thereof, and be able to negotiate the same for full value.

* * * * *

Dated: November 2, 2001.
Richard L. Gregg,
Commissioner.

[FR Doc. 01-30535 Filed 12-7-01; 8:45 am]

BILLING CODE 4810-35-P